DEPARTMENT OF JUSTICE

Notice of Lodging of Proposed Consent Decree Under the Clean Water Act

On April 16, 2013, the Department of Justice lodged a proposed Consent Decree with the United States District Court for the Western District of Washington in the lawsuit entitled United States and the State of Washington v. King County, Washington, Civil Action No. 2:13-cv-00677.

In this action the United States sought civil penalties and injunctive relief for violations of the Clean Water Act (“CWA”), 33 U.S.C. 1251 et seq., in connection with King County, Washington (“County”) operation of its wastewater treatment and collection system in King County and surrounding areas. The proposed consent decree requires the County to construct and implement a series of storage tanks or pipes and treatment facilities, as set forth in its approved Long Term Control Plan, by no later than December 31, 2030, and a system-wide operation program plan to maximize the treatment and storage of wet weather flow. The County will also pay a total of $400,000.00 in civil penalties: $200,000 to the United States and $200,000 to the State of Washington.

The publication of this notice opens a period for public comment on the proposed Consent Decree. Comments should be addressed to the Assistant Attorney General, Environment and Natural Resources Division, and should refer to United States v. King County, Washington, D.J. Ref. No. 90-5-1-1-10030. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the proposed Consent Decree may be examined and downloaded at this Justice Department Web site: http://www.usdoj.gov/enrd/Consent_Decrees.html. We will provide a paper copy of the proposed Consent Decree upon written request and payment of reproduction costs. Please mail your request and payment to: Consent Decree Library, U.S. DOJ—ENRD, P.O. Box 7611, Washington, DC 20044-7611.

Please enclose a check or money order for $18.75 (25 cents per page reproduction cost) payable to the United States Treasury.

Robert E. Maher, Jr.,
Assistant Section Chief, Environmental Enforcement Section, Environment and Natural Resources Division.

[FR Doc. 2013-09897 Filed 4-25-13; 8:45 am]

BILLING CODE 4410-15-P